ENVIRONMENTAL PROTECTION AGENCY

[OPP-00668; FRL-6567-6]

Pesticide Cumulative Risk Assessment Guidance; Notice of Public Meeting

AGENCY: Environmental Protection Agency (EPA).

ACTION: Notice of public meeting.

SUMMARY: EPA will hold a public meeting to explain and answer questions concerning its draft guidance document entitled, “Proposed Guidance on Cumulative Risk Assessment of Pesticide Chemicals that Have a Common Mechanism of Toxicity.” Notice of availability of the draft guidance document was issued in the Federal Register of June 30, 2000. At the meeting, EPA will explain the hazard and exposure methodology in the proposed guidance. The meeting is intended for informational purposes only.

DATES: The meeting will be held on July 20, 2000, from 9:30 a.m. to 4:30 p.m.

ADDRESSES: The meeting will be held at The National Rural Electric Cooperative Association, 4301 Wilson Blvd., Arlington, VA.

FOR FURTHER INFORMATION CONTACT: Jean M. Frane, Field and External Affairs Division (7506C), Office of Pesticide Programs, Environmental Protection Agency, 1200 Pennsylvania Ave., NW., Washington, DC 20460; telephone number: (703) 305-5944; e-mail address: frane.jean@epa.gov.

SUPPLEMENTARY INFORMATION:

I. Does This Action Apply to Me?

This action is directed to the public in general. This action may, however, be of interest to persons who are or may be required to conduct testing of chemical substances under the Federal Food, Drug and Cosmetic Act (FFDCA), or the Federal Insecticide, Fungicide, and Rodenticide Act (FIFRA). Since other entities may also be interested, the Agency has not attempted to describe all the specific entities that may be affected by this action. If you have any questions regarding the applicability of this action to a particular entity, consult the person listed under FOR FURTHER INFORMATION CONTACT.

II. How Can I Get Additional Information, Including Copies of This Document and Other Related Documents?

1. Electronically. You may obtain electronic copies of the cumulative risk assessment guidance document from the EPA Internet Home Page at http://www.epa.gov/. To access this document, on the Home Page select “Laws and Regulations” and then look up the entry for this document under the “Federal Register—Environmental Documents.” You can also go directly to the Federal Register listings at http://www.epa.gov/fedrgstr/.

2. In person. The Agency has established an official record for the cumulative risk assessment Guidance document under docket control number OPP-00668. In addition, the documents referred to in the framework notice, which published in the Federal Register on October 29, 1998 (63 FR 58038) (FRL-6041-5) have also been inserted in the docket under docket control number OPP-00557. The official record consists of the documents specifically referenced in this action, and other information related to this action, including any information claimed as Confidential Business Information (CBI). This official record includes the documents that are physically located in the docket, as well as the documents that are referenced in those documents. The public version of the official record does not include any information claimed as CBI. The public version of the official record, which includes printed, paper versions of any electronic comments submitted during an applicable comment period is available for inspection in the Public Information and Records Integrity Branch (PIRIB), Rm. 119, Crystal Mall #2, 1921 Jefferson Davis Highway, Arlington, VA, from 8:30 a.m. to 4 p.m., Monday through Friday, excluding legal holidays. The PIRIB telephone number is (703) 305-5805.

III. How Do I Submit Comments on the Draft Guidance Document?

As described in Unit I.C. of the notice of availability on the draft guidance document entitled,“Proposed Guidance on Cumulative Risk Assessment of Pesticide Chemicals that Have a Common Mechanism of Toxicity” published in the Federal Register of June 30, 2000 (65 FR 40644) (FRL-6556-4), you may submit your comments through the mail, electronically, or in person. Please follow the detailed instructions for each method provided in the notice of availability. To ensure proper receipt by EPA, it is imperative that you identify docket control number OPP-00658 in the subject line on the first page of your response.

IV. How Can I Request to Participate in This Meeting?

All interested persons may attend the meeting. No request to participate is needed. The meeting is informational only, with presentations followed by an opportunity for the public to ask questions to the EPA staff.

List of Subjects

Environmental protection, Administrative practice & procedure, Agricultural commodities, Pesticides and pests.

Dated: June 29, 2000.
Susan B. Hazen,
Acting Director, Office of Pesticide Programs.

[FR Doc. 00-17073 Filed 7-5-00; 8:45 am]

BILLING CODE 6560-50-F